DEPARTMENT OF THE INTERIOR

National Park Service

[NPS-WASO-NAGPRA-16307; PPWOCRADN0-PCU00RP14.R50000]

Notice of Inventory Completion: U.S. Department of Defense, Army, Fort Sill National Historic Landmark and Museum, Fort Sill, OK

AGENCY: National Park Service, Interior.

ACTION: Notice.

SUMMARY: The Fort Sill National Historic Landmark and Museum has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Fort Sill National Historic Landmark and Museum. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Fort Sill National Historic Landmark and Museum at the address in this notice by October 10, 2014.

ADDRESSES: Dr. Scott A. Neel, Director, Fort Sill National Historic Landmark and Museum, U.S. Army Fires Center of Excellence, Fort Sill, OK 73503, telephone (580) 442-6570, email scott.a.neel2.civ@mail.mil.

SUPPLEMENTARY INFORMATION: Notice is here given in accordance with the Native American Graves Protection and Repatriation Act (NAGPRA), 25 U.S.C. 3003, of the completion of an inventory of human remains under the control of the Fort Sill National Historic Landmark and Museum, Fort Sill, OK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Fort Sill National Historic Landmark and Museum and Fort Sill Environmental Quality Division professional staff in consultation with representatives of the Apache Tribe of Oklahoma; Caddo Nation of Oklahoma; Cheyenne and Arapaho Tribes, Oklahoma (previously listed as Cheyenne-Arapaho Tribes of Oklahoma); Comanche Nation, Oklahoma; Delaware Nation, Oklahoma; Fort Sill Apache Tribe of Oklahoma; Kiowa Indian Tribe of Oklahoma; Navajo Nation, Arizona, New Mexico & Utah; The Chickasaw Nation; and the Wichita and Affiliated Tribes (Wichita, Keechi, Waco & Tawakonie), Oklahoma.

History and Description of the Remains

In 1874, human remains representing, at minimum, one individual were taken near Lubbock, TX. The human remains consist of a scalp taken by Chief Big Bow, a prominent war chief of the Kiowa who, on a number of occasions, was reported to have taken scalps from defeated enemies. In 1962, Chief Big Bow's great grandson sold the scalp to Fort Sill (62.99.4). The grandson testified at the time that Chief Big Bow had taken the scalp from a Navajo in the 1870s. Historical records indicate that in 1874, Navajos stole the horses belonging to Chief Big Bow in the vicinity of Yellow House Canyon or Blanco Canyon, TX. Chief Big Bow was also a participant in the Red River War in 1874, in the vicinity of Yellow House Canyon and Blanco Canyon. Other sources record that Chief Big Bow was on a foray into New Mexico in 1855, when he almost single-handedly captured several ponies and took a Navajo scalp.

Determinations Made by the Fort Sill National Historic Landmark and Museum

Officials of the Fort Sill National Historic Landmark and Museum have determined that:

• Pursuant to 25 U.S.C. 3001(9), the human remains described in this notice represent the physical remains of one individual of Native American ancestry.

• Pursuant to 25 U.S.C. 3001(2), there is a relationship of shared group identity that can be reasonably traced between the Native American human remains and the Navajo Nation, Arizona, New Mexico & Utah.

Additional Requestors and Disposition

Lineal descendants or representatives of any Indian tribe or Native Hawaiian organization not identified in this notice that wish to request transfer of control of these human remains should submit a written request with information in support of the request to Dr. Scott A. Neel, Director, Fort Sill National Historic Landmark and Museum, U.S. Army Fires Center of Excellence, Fort Sill, OK 73503, telephone (580) 442-6570, email scott.a.neel2.civ@mail.mil, by October 10, 2014. After that date, if no additional requestors have come forward, transfer of control of the human remains to the Navajo Nation, Arizona, New Mexico & Utah may proceed.

The Fort Sill National Historic Landmark and Museum is responsible for notifying the Apache Tribe of Oklahoma; Caddo Nation of Oklahoma; Cheyenne and Arapaho Tribes, Oklahoma (previously listed as Cheyenne-Arapaho Tribes of Oklahoma); Comanche Nation, Oklahoma; Delaware Nation, Oklahoma; Fort Sill Apache Tribe of Oklahoma; Kiowa Indian Tribe of Oklahoma; Navajo Nation, Arizona, New Mexico & Utah; The Chickasaw Nation; and the Wichita and Affiliated Tribes (Wichita, Keechi, Waco & Tawakonie), Oklahoma, that this notice has been published.

Dated: July 17, 2014.
Melanie O'Brien,
Acting Manager, National NAGPRA Program.

[FR Doc. 2014-21530 Filed 9-9-14; 8:45 am]

BILLING CODE 4312-50-P